DEPARTMENT OF COMMERCE

Foreign-Trade Zones Board

[B-17-2021]

Foreign-Trade Zone (FTZ) 93—Raleigh/Durham, North Carolina, Authorization of Production Activity, Liebel-Flarsheim Company, LLC (Diagnostic Imaging Contrast Media), Raleigh, North Carolina

On March 2, 2021, Liebel-Flarsheim Company, LLC, submitted a notification of proposed production activity to the FTZ Board for its facility within FTZ 93, in Raleigh, North Carolina.

The notification was processed in accordance with the regulations of the FTZ Board (15 CFR part 400), including notice in the Federal Register inviting public comment (86 FR 13524-13525, March 9, 2021). On June 30, 2021, the applicant was notified of the FTZ Board's decision that no further review of the activity is warranted at this time. The production activity described in the notification was authorized, subject to the FTZ Act and the FTZ Board's regulations, including Section 400.14.

Dated: June 30, 2021.
Andrew McGilvray,
Executive Secretary.

[FR Doc. 2021-14301 Filed 7-2-21; 8:45 am]

BILLING CODE 3510-DS-P